ENVIRONMENTAL PROTECTION AGENCY

[FRL-12411-01-OW]

National Drinking Water Advisory Council; Meeting

AGENCY: Environmental Protection Agency (EPA).

ACTION: Notice of a public meeting.

SUMMARY: The U.S. Environmental Protection Agency's Office of Ground Water and Drinking Water is announcing a meeting of the National Drinking Water Advisory Council (NDWAC or Council) as authorized under the Safe Drinking Water Act. The purpose of the meeting is for the EPA to consult with the NDWAC as required by the Safe Drinking Water Act on a proposed National Primary Drinking Water Regulation for perchlorate. Additional details will be provided in the meeting agenda, which will be posted on the EPA's NDWAC website prior to the meeting. See the SUPPLEMENTARY INFORMATION section of this announcement for more information.

DATES: The meeting will be held on January 9, 2025, from 11:30 a.m. to 4:15 p.m., Eastern time.

ADDRESSES: This will be a virtual meeting. There will be no in-person gathering for this meeting. For more information about attending, providing oral statements, and accessibility for the meeting, as well as sending written comments, see the SUPPLEMENTARY INFORMATION section of this announcement.

FOR FURTHER INFORMATION CONTACT: Tracey Ward, NDWAC Designated Federal Officer, Office of Ground Water and Drinking Water (Mail Code 4601), U.S. Environmental Protection Agency, 1200 Pennsylvania Avenue NW, Washington, DC 20460; telephone number: (202) 564-3796; email address: ward.tracey@epa.gov.

SUPPLEMENTARY INFORMATION:

Attending the Meeting: The meeting will be open to the general public. The meeting agenda and information on how to register for and attend the meeting online will be provided on EPA's website at: https://www.epa.gov/ndwac prior to the meeting.

Oral Statements: The EPA will allocate one hour for the public to present oral comments during the meeting. Oral statements will be limited to three minutes per person during the public comment period. It is preferred that only one person present a statement on behalf of a group or organization. Persons interested in presenting an oral statement should send an email to Tracey Ward at ward.tracey@epa.gov by noon, eastern time, on January 2, 2025.

Written Statements: Any person who wishes to file a written statement can do so before or after the Council meeting. Send written statements by email to ward.tracey@epa.gov or see the FOR FURTHER INFORMATION CONTACT section if sending statements by mail. Written statements received by noon, Eastern time, on January 2, 2025, will be distributed to all members of the Council prior to the meeting. Statements received after that time will become part of the permanent file for the meeting and will be forwarded to the Council members after conclusion of the meeting. Members of the public should be aware that their personal contact information, if included in any written comments, may be posted to the NDWAC website. Copyrighted material will not be posted without the explicit permission of the copyright holder.

Accessibility: For information on access or services for individuals with disabilities, or to request accommodations for a disability, please contact Tracey Ward by email at ward.tracey@epa.gov, or by phone at (202) 564-3796, preferably at least 10 days prior to the meeting to allow as much time as possible to process your request.

National Drinking Water Advisory Council: The NDWAC was created by Congress on December 16, 1974, as part of the Safe Drinking Water Act of 1974, Public Law 93-523, 42 U.S.C. 300j-5, and is operated in accordance with the provisions of the Federal Advisory Committee Act, as amended, 5 U.S.C. 10. The NDWAC was established to advise, consult with, and make recommendations to the EPA Administrator on matters relating to activities, functions, policies, and regulations under the Safe Drinking Water Act. General information concerning the NDWAC is available at: https://www.epa.gov/ndwac.

Jennifer L. McLain,
Director, Office of Ground Water and Drinking Water.

[FR Doc. 2024-28360 Filed 12-3-24; 8:45 am]

BILLING CODE 6560-50-P